DEPARTMENT OF COMMERCE

Submission for OMB Review; Comment Request

The Department of Commerce will submit to the Office of Management and Budget (OMB) for clearance the following proposal for collection of information under the provisions of the Paperwork Reduction Act (44 U.S.C. Chapter 35).

Agency: National Oceanic and Atmospheric Administration (NOAA).

Title: Highly Migratory Species (HMS) Scientific Research Permits, Exempted Fishing Permits, Letters of Acknowledgment, Display Permits, and Shark Research Fishery Permits.

OMB Control Number: 0648-0471.

Form Number(s): NA.

Type of Request: Revision and extension of a current information collection.

Number of Respondents: 57.

Average Hours Per Response: Two hours for a scientific research plan; 40 minutes for an application for an EFP, Display Permit, SRP, LOA, or Shark Research Permit or for an annual report; 1 hour for an interim report; 15 minutes for an application for amendment; 5 minutes for notification of departure phone calls to NMFS Enforcement; 10 minutes for calls to request an observer; and 2 minutes for “no-catch” reports or tag applications.

Burden Hours: 217.

Needs and Uses: Exempted Fishing Permits (EFPs), Scientific Research Permits (SRPs), Display Permits, Letters of Acknowledgment (LOAs), and Shark Research Fishery Permits are issued under the authority of the Magnuson-Stevens Fishery Conservation and Management Reauthorization Act (Magnuson-Stevens Act) (16 U.S.C. 1801 et seq.) and/or the Atlantic Tunas Convention Act (ATCA) (16 U.S.C. 971 et seq.). Issuance of these permits is necessary for the collection of Highly Migratory Species (HMS) for public display and scientific research that requires exemption from regulations that otherwise may prohibit such collection. Display Permits are issued for the collection of HMS for the purpose of public display, and a limited number of Shark Research Fishery Permits are issued for the collection of fishery-dependent data for future stock assessments and cooperative research with commercial fishermen to meet the shark research objectives of the Agency.

Regulations at 50 CFR 600.745 and 50 CFR 635.32 govern scientific research activity, exempted fishing, and exempted educational activities with respect to Atlantic HMS. Since the Magnuson-Stevens Act does not include scientific research within the definition of “fishing,” scientific research is exempt from this statute. NMFS requests copies of scientific research plans for these activities and indicates concurrence by issuing a LOA to researchers to indicate that the proposed activity meets the definition of scientific research and is therefore exempt from regulation.

Scientific research is not exempt from regulation under ATCA. NMFS issues SRPs for collection of species managed under this statute (e.g., tunas, swordfish, billfish), which authorize researchers to collect HMS from bona fide research vessels (e.g., NMFS or university research vessel.) NMFS will issue an EFP when research/collection involving such species occurs from commercial or recreational fishing platforms.

To regulate these fishing activities, NMFS needs information to determine the justification for granting an EFP, LOA, SRP, Display or Shark Research Fishery Permit. Interim, annual and no-catch/fishing reports must also be submitted to the HMS Management Division within NMFS.

Revision: Minor changes have been made to forms, including language encouraging electronic submission.

Affected Public: Non-profit institutions; state, local, or tribal government; business or other for-profit organizations.

Frequency: Annually and on occasion.

Respondent's Obligation: Required to obtain or retain benefits.

This information collection request may be viewed at reginfo.gov. Follow the instructions to view Department of Commerce collections currently under review by OMB.

Written comments and recommendations for the proposed information collection should be sent within 30 days of publication of this notice to OIRA_Submission@omb.eop.gov or fax to (202) 395-5806.

Dated: September 19, 2014.
Gwellnar Banks,
Management Analyst, Office of the Chief Information Officer.

[FR Doc. 2014-22755 Filed 9-24-14; 8:45 am]

BILLING CODE 3210-22-P